DEPARTMENT OF DEFENSE

Department of the Navy

Notice of Intent to Grant Exclusive Patent License; CG Industries, Inc.

AGENCY: Department of the Navy, DOD.

ACTION: Notice.

SUMMARY: The Department of the Navy gives notice of its intent to grant to CG Industries, Inc., a revocable, nonassignable nonexclusive license in the United States to practice the Government-owned invention, U.S. Patent Application Serial Number 09/437,727 entitled “Automated Contact Gage System Using Three-Axis Contact Contour Comparator.”

DATES: Anyone wishing to object to the grant of this license must file written objections along with supporting evidence, if any, not later than April 16, 2001.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Authority: 35 U.S.C. 207, 37 CFR Part 404.

Dated: February 5, 2001.
J. L. Roth,
Lieutenant Commander, Judge Advocate General's Corps, U.S. Navy, Federal Register Liaison Officer.

[FR Doc. 01-3716 Filed 2-13-01; 8:45 am]

BILLING CODE 3810-FF-U